DEPARTMENT OF ENERGY

Federal Energy Regulatory Commission

[Project No. 2146-111]

Alabama Power Company; Notice of Availability of Environmental Assessment

April 6, 2009.

In accordance with the National Environmental Policy Act of 1969 and the Federal Energy Regulatory Commission's (Commission) regulations, 18 CFR part 380 (Order No. 486, 52 FR 47897), the Office of Energy Projects has reviewed the application for a New Major License for the Coosa River Hydroelectric Project (Coosa), which includes the Weiss, H. Neely Henry, Logan Martin, Lay and Bouldin developments; the Mitchell Hydroelectric Project (P-82); and the Jordan Hydroelectric Project (P-618). Alabama Power Company has requested that Project Nos. 2146, 82, and 618 be consolidated into one project. We are processing these three projects under Project No. 2146-111.

The Coosa River Project is located on the Coosa River, in the states of Alabama and Georgia. The Logan Martin development affects less than an acre of Federal lands, the Lay development affects 133.5 acres of Federal lands, the Mitchell Project affects 127.3 acres of Federal lands, and the Jordan Project affects 10.1 acres of Federal lands. Staff has prepared an Environmental Assessment (EA) for the project.

The EA contains staff's analysis of the potential environmental effects of the project and concludes that licensing the project, with appropriate environmental protective measures, would not constitute a major Federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

Any comments should be filed within 30 days from the date of this notice and should be addressed to: Kimberly D. Bose, Secretary, Federal Energy Regulatory Commission, 888 First Street, NE., Washington, DC 20426. Please affix Project No. 2146-111 to all comments. Comments may be filed electronically via the Internet in lieu of paper. The Commission strongly encourages electronic filings. See 18 CFR 385.2001(a)(1)(iii) and the instructions on the Commission's Web site (http://www.ferc.gov) under the “e-Filing” link.

For further information, please contact Janet Hutzel at (202) 502-8675 or at janet.hutzel@ferc.gov.

Kimberly D. Bose,
Secretary.

[FR Doc. E9-8237 Filed 4-9-09; 8:45 am]

BILLING CODE 6717-01-P